DEPARTMENT OF HEALTH AND HUMAN SERVICES

Administration for Children and Families

Submission for OMB Review; Comment Request

Title: Permanency Innovations Initiative Evaluation: Phase 2.

OMB No.: 0970-0408.

Description: The Administration for Children and Families (ACF), U.S. Department of Health and Human Services (HHS) intends to collect data for an evaluation of the Permanency Innovations Initiative (PII). This 5-year initiative, funded by the Children's Bureau (CB) within ACF, is intended to build the evidence base for innovative interventions that enhance well-being and improve permanency outcomes for particular groups of children and youth who are at risk for long-term foster care and who experience the most serious barriers to timely permanency. The CB funded six grantees to identify local barriers to permanent placement and implement innovative strategies that mitigate or eliminate those barriers and reduce the likelihood that children will remain in foster care for 3 years or longer. In addition, evaluation plans were developed to support rigorous site-specific and cross-site studies to document the implementation and effectiveness of the grantees' projects and the initiative overall.

Data collection for the PII evaluation includes a number of components being launched at different points in time. Phase 1 included data collection for a cross-site implementation evaluation and site-specific evaluations of two PII grantees (Washoe County, Nevada, and the State of Kansas). Phase 1 data collection was approved in August 2012 (OMB #0970-0408). Phase 2 includes data collection for site-specific evaluations of two PII grantees: Illinois Department of Children and Family Services (DCFS); and the Los Angeles Gay and Lesbian Center's Recognize Intervene Support Empower (RISE) project. A third phase of the study will include data collection for a cross-site cost study, additional data collection components for the RISE project, and data collection for California Department of Social Services' California Partnership for Permanency (CAPP) project. Data for the evaluations will be collected through surveys of children, youth, foster parents, guardians, biological parents, and caseworkers and other agency staff.

Respondents: Children/youth and their parents or foster caregivers, caseworkers and other agency staff.

Annual Burden Estimates
Instrument | Annual number of respondents | Number of responses per respondent | Average burden hours per response | Totalannual burden hours
DCFS Biological Parent Study Contact Form | 1 | 173 | .1 | 17
DCFS Biological Parent Interview | 173 | 2 | .25 | 86
DCFS Youth and Foster Parent Study Contact Form | 1 | 228 | .1 | 23
DCFS Foster Parent Interview | 228 | 2 | .75 | 342
DCFS Youth Interview | 228 | 2 | .75 | 342
DCFS burden |  |  |  | 810
RISE Staff Pre-Test | 157 | 1 | .25 | 39
RISE Staff Post-Test | 157 | 1 | .25 | 39
RISE burden |  |  |  | 78

Estimated Total Annual Burden Hours: 888

Additional Information: Copies of the proposed collection may be obtained by writing to the Administration for Children and Families, Office of Planning, Research and Evaluation, 370 L'Enfant Promenade SW., Washington, DC 20447, Attn: OPRE Reports Clearance Officer. All requests should be identified by the title of the information collection. Email address: OPREinfocollection@acf.hhs.gov.

OMB Comment: OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, Email: OIRA_SUBMISSION@OMB.EOP.GOV, Attn: Desk Officer for the Administration for Children and Families.

Steven M. Hanmer,
OPRE Reports Clearance Officer.

[FR Doc. 2013-12546 Filed 5-24-13; 8:45 am]

BILLING CODE 4184-01-P